DEPARTMENT OF TRANSPORTATION

Federal Aviation Administration

Eighth Meeting: RTCA Special Committee 207/Airport Security Access Control Systems

AGENCY: Federal Aviation Administration (FAA), DOT.

ACTION: Notice of RTCA Special Committee 207 Meeting, Airport Security Access Control Systems.

SUMMARY: The FAA is issuing this notice to advise the public of a meeting RTCA Special Committee 207, Airport Security Access Control Systems.

DATES: The meeting will be held September 14, 2006, from 10 a.m.-4 p.m.

ADDRESSES: The meeting will be held at RTCA, Inc., Colson Board Room, 1828 L Street, NW., Suite 805, Washington, DC 20036.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 207 meeting. The agenda will include:

• September 14:

• Opening Plenary Session (Welcome, Introductions, and Administrative Remarks).

• Agenda Overview.

• Workgroup Reports.

• Workgroup 2: System Performance Requirements.

• Workgroup 3: Subsystem Functional Performance Requirements.

• Workgroup 4: System Verification and validation.

• Workgroup 5: Biometrics.

• Workgroup 6: Credentials.

• Workgroup 7: Perimeter.

• ICAO Update.

• Closing Plenary Session (Other Business, Establish Agenda, Date and Place for Ninth and Tenth Meetings).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 10, 2006.
Francisco C. Estrada,
RTCA Advisory Committee.

[FR Doc. 06-7112 Filed 8-23-06; 8:45 am]

BILLING CODE 4910-13-M